DEPARTMENT OF THE INTERIOR

Fish and Wildlife Service

Conference of the Parties to the Convention on International Trade in Endangered Species of Wild Fauna and Flora (CITES); Fourteenth Regular Meeting; Tentative U.S. Negotiating Positions for Agenda Items and Species Proposals Submitted by Foreign Governments and the CITES Secretariat

AGENCY: Fish and Wildlife Service, Interior.

ACTION: Notice.

SUMMARY: We, the United States, as a Party to the Convention on International Trade in Endangered Species of Wild Fauna and Flora (CITES), will attend the fourteenth regular meeting of the Conference of the Parties to CITES (CoP14) in The Hague, The Netherlands, June 3-15, 2007. This notice announces the tentative U.S. negotiating positions on amendments to the CITES Appendices (species proposals), draft resolutions and decisions, and agenda items submitted by other countries and the CITES Secretariat for consideration at CoP14. With this notice we also announce that we will publish a notice after the conclusion of CoP14 to invite public input on whether the United States should take a reservation on any of the amendments to the CITES Appendices that are adopted.

DATES: In further developing U.S. negotiating positions on these issues, we will continue to consider information and comments submitted in response to our notice of February 21, 2007 (72 FR 7904). We will also continue to consider information received at the public meeting announced in that notice, which was held on April 9, 2007. We will publish a notice after June 15, 2007, to invite public input on whether the United States should take a reservation on any of the amendments to the CITES Appendices that are adopted.

ADDRESSES: Comments pertaining to draft resolutions and decisions, and agenda items should be sent to the Division of Management Authority; U.S. Fish and Wildlife Service; 4401 North Fairfax Drive; Room 700; Arlington, VA 22203; or via e-mail at: cop14@fws.gov; or via fax at: 703-358-2298. Comments pertaining to species proposals should be sent to the Division of Scientific Authority; U.S. Fish and Wildlife Service; 4401 North Fairfax Drive; Room 750; Arlington, VA 22203; or via e-mail at: scientificauthority@fws.gov; or via fax at: 703-358-2276. Comments and materials received will be available for public inspection, by appointment, from 8 a.m. to 4 p.m., Monday through Friday, at either the Division of Management Authority or the Division of Scientific Authority.

Reservations

With this notice, we announce that we will publish a notice after the conclusion of CoP14 to invite public input on whether the United States should take a reservation on any of the amendments to the CITES Appendices that are adopted.

Available Information

Information concerning the results of CoP14 will be available after the close of the meeting on the Secretariat's Web site at http://www.cites.org; or upon request from the Division of Management Authority; or on our CITES Web site (http://international.fws.gov/cites/cites.html).

FOR FURTHER INFORMATION CONTACT: For information pertaining to resolutions and agenda items contact: Chief, Branch of CITES Operations, Division of Management Authority; telephone, 703-358-2095; fax, 703-358-2298; e-mail, cop14@fws.gov. For information pertaining to species proposals contact: Chief, Division of Scientific Authority; telephone, 703-358-1708; fax, 703-358-2276; e-mail, scientificauthority@fws.gov.

SUPPLEMENTARY INFORMATION:

Background

The Convention on International Trade in Endangered Species of Wild Fauna and Flora (CITES or the Convention) is an international treaty designed to control and regulate international trade in certain animal and plant species that are now or potentially may become threatened with extinction due to trade. These species are listed in the Appendices to CITES, which are available on the CITES Secretariat's Web site at http://www.cites.org/eng/app/index.shtml. Currently, 171 countries, including the United States, are Parties to CITES. The Convention calls for regular meetings of the Conference of the Parties (CoP) to review issues pertaining to implementation, makes provisions enabling the CITES Secretariat to carry out its functions, consider amendments to the list of species in Appendices I and II, consider reports presented by the Secretariat, and make recommendations to improve the effectiveness of CITES. Any country that is a Party to CITES may propose and vote on amendments to Appendices I and II (species proposals), draft resolutions and decisions, and agenda items submitted for consideration by the Conference of Parties. Accredited nongovernmental organizations (NGOs) may participate in the meeting as approved observers and may speak during sessions when recognized by the meeting Chairman, but they may not vote or submit proposals.

This is our fourth in a series of Federal Register notices that, together with announced public meetings, provide you with an opportunity to participate in the development of U.S. tentative negotiating positions for CoP14. In this notice we announce the tentative U.S. negotiating positions on species proposals, draft resolutions and decisions, and agenda items submitted by other Parties and the Secretariat for consideration at CoP14. We published our first CoP14-related Federal Register notice on January 20, 2006 (71 FR 3319), and with it we requested information and recommendations on species proposals, draft resolutions and decisions, and agenda items for the United States to consider submitting for consideration at CoP14. We published our second such Federal Register notice on November 7, 2006 (71 FR 65126), and with it we requested public comments and information on species proposals, draft resolutions and decisions, and agenda items that the United States was considering submitting for consideration at CoP14. On December 11, 2006, we held the public meeting announced in our second Federal Register notice; at that meeting, we discussed the issues contained in our November 7 Federal Register notice and in our Web site posting on the same topic. In our third Federal Register notice, published on February 21, 2007 (72 FR 7904), we announced the provisional agenda for CoP14, solicited public comments on items on the provisional agenda, and announced a public meeting to discuss the agenda items. That public meeting was held on April 9, 2007.

You may obtain information on the above Federal Register notices from the following sources. For information on draft resolutions and decisions, and agenda items, contact the Division of Management Authority (see ADDRESSES, above); and for information on species proposals, contact the Division of Scientific Authority (see ADDRESSES, above). Our regulations governing this public process are found in 50 CFR 23.31-23.39. Pursuant to 50 CFR 23.38(a), the Director has decided to suspend the procedure for publishing a notice of final negotiating positions in the Federal Register because time and resources needed to prepare a Federal Register notice would detract from essential preparation for CoP14.

Tentative Negotiating Positions

In this notice we summarize the tentative U.S. negotiating positions on proposals to amend the Appendices (species proposals), draft resolutions and decisions, and agenda items that have been submitted by other countries and the CITES Secretariat. Documents submitted by the United States for consideration of the Parties at CoP14 can be found on the Secretariat's Web site at: http://www.cites.org/eng/cop/index.shtml. Those documents are: CoP14 Doc. 18.2, CoP14 Doc. 39, and CoP14 Doc. 43. The United States also submitted Document CoP14 Doc. 67 at the request of the Animals and Plants Committees. The United States, either alone or as a co-proponent, submitted the following proposals to amend Appendices I and II: CoP14 Prop. 2, CoP14 Prop. 17, CoP14 Prop. 19, CoP14 Prop. 21, CoP14 Prop. 22, CoP14 Prop. 23, CoP14 Prop. 28, and CoP14 Prop. 36. In this notice, we will not provide any additional explanation of the U.S. negotiating position for documents that the United States submitted. The introduction in the text of each of the documents the United States submitted contains a discussion of the background of the issue and the rationale for submitting the document.

In this notice, numerals next to each agenda item or resolution correspond to the numbers used in the agenda for CoP14 and posted on the Secretariat's Web site. When we completed the notice, the Secretariat had not yet made available documents for a number of the agenda items on the CoP14 agenda. For several other documents, we are still working with other agencies in the United States and other CITES Parties to develop the U.S. negotiating position. The documents for which we do not currently have tentative U.S. negotiating positions are: CoP14 Doc. 10 and CoP14 Doc. 30.

In the discussion that follows, we have included a brief description of each species proposal, draft resolution, draft decision, and agenda item submitted by other Parties or the Secretariat, followed by a brief explanation of the tentative U.S. negotiating position for that item. New information that may become available prior to or at CoP14 could lead to modifications of these positions. The U.S. delegation will fully disclose changes in our negotiating positions and the explanations for those changes during public briefings at CoP14. The United States is concerned about the budgetary implications and workload burden that will be placed upon the Parties, the committees, and the Secretariat, and intends to evaluate all documents for CoP14 in view of these concerns.

Agenda (Provisional)

Opening Ceremony and Welcoming Addresses

The Secretariat will not prepare a document on these agenda items. According to tradition, as the host country for CoP14, The Netherlands will conduct an opening ceremony and make welcoming remarks.

Administrative Matters

1. Rules of Procedure (Doc. 1). Tentative U.S. negotiating position: Support. The CITES Secretariat prepared Document CoP14 Doc. 1, the draft Rules of Procedure for CoP14. The draft Rules are identical to those adopted for CoP13, except for several amendments proposed to Rules 14 and 15, regarding the creation of the position of an Alternate Chairman of the Conference, and Rule 28, regarding submission of informative documents for the CoP. The United States tentatively supports the draft Rules of Procedure and the amendments proposed to Rules 14, 15, and 28, but plans to propose several additional amendments to the text of these three Rules to clarify several points.

2. Election of Chairman and Vice-Chairmen of the meeting and of Chairmen of Committees I and II (No document). Tentative U.S. negotiating position: Undecided. According to tradition, the host country—in this case, The Netherlands—will provide the Conference Chairman. The United States will support the election of committee Chairmen and a Vice-Chairman of the Conference who have the required technical knowledge and skills and also reflect the geographic and cultural diversity of the CITES Parties.

3. Adoption of the agenda (Doc. 3). Tentative U.S. negotiating position: Support.

4. Adoption of the working programme (Doc. 4). Tentative U.S. negotiating position: Support. Prior to a CoP, the working programme is provisional and changes may be made to it prior to the start of CoP14 or at the beginning of the CoP. The United States supports the provisional working programme posted at the time this notice was prepared.

5. Credentials Committee

5.1 Establishment of the Credentials Committee (No document). Tentative U.S. negotiating position: Undecided.

5.2 Report of the Credentials Committee (No document). Tentative U.S. negotiating position: Undecided. The United States will follow the work of the Credentials Committee and intervene as appropriate.

6. Admission of observers (Doc. 6). Tentative U.S. negotiating position: Undecided. A document for this agenda item is not normally distributed prior to the start of a CoP. National NGOs are admitted as observers if their headquarters are located in a CITES Party country and if the national government of that Party approves their attendance at the CoP. International NGOs are admitted by approval of the CITES Secretariat. After being approved as an observer, an NGO is admitted to the CoP unless one-third of the Parties object. The United States supports admission to the meeting of all technically qualified NGOs, and opposes unreasonable limitations on their full participation as observers at CoP14. In addition, the United States supports flexibility and openness in the process for disseminating documents produced by NGOs to Party delegates, which are vital to decision-making and scientific and technical understanding.

7. Financing and budgeting of the Secretariat and of meetings of the Conference of the Parties. Tentative U.S. negotiating position on Agenda Items 7.1, 7.2, and 7.3: Undecided. These are comprehensive documents that require extensive review, internal discussion, and analysis of the financial implications for Parties and the impact on the work of the Secretariat and the committees. The United States will review the documents carefully, bearing in mind the need to balance tasks with available resources. The United States advocates fiscal responsibility and accountability on the part of the Secretariat and the Conference of the Parties and plans to be an active participant in the budget discussions at CoP14. The voluntary annual contribution of the United States to CITES is determined through our domestic budgeting process. The United States believes it is necessary that the CITES Secretariat provide additional information on budgetary and financial matters in relation to the costed programme of work proposed in Document CoP14 Doc. 7.3. Until such information is provided and analyzed, and discussed with the Parties and the Secretariat, we will not be able to consider supporting any increase in the budget of the Convention.

8. Committee Reports

8.1 Report of the Chairman of the Standing Committee (Doc. 8.1). Tentative U.S. negotiating position: At the time this notice was prepared, this document had not been posted on the Secretariat's website. This report is largely a summary of activities conducted by the Standing Committee, or particularly the Chairman, since CoP13. Many of these activities are covered by other CoP14 agenda items.

8.2 Report of the Chairman of the Animals Committee (Doc. 8.2). Tentative U.S. negotiating position: Most of this document is a report by the Chairman of his activities or a recounting of the proceedings of meetings of the Animals Committee, and therefore not requiring a position. The outcomes of some of the Animals Committee deliberations are reflected in other agenda items for CoP14, where they are elaborated more substantially. However, there are some specific recommendations contained in the report requiring a position. These (and the tentative U.S. position) include:

• Draft decisions for Psittacus erithacus, derived from the Review of Significant Trade in this species, calling for the development of management plans by range countries, with assistance from the Secretariat, subject to external funding (Support);

• A draft decision for the Secretariat to convene, subject to external funding, a workshop to initiate regional cooperation on fisheries management for Tridacnidae (Support);

• Extending Decision 13.93 to continue the review of the Felidae, particularly the review of Lynx spp. and look-alike issues, until CoP15 (Support);

• Consider that the Parties, Animals Committee, and Secretariat have complied with Decisions 13.95-13.97 related to fossil corals (Support); and

• Consideration of providing supplemental funding (US$30,000 annually) to the Chairman of the Animals Committee, especially if from a developing country and where governmental or institutional support is insufficient to fulfill the duties of the position (Unable to support given the current budgetary situation for the Convention).

8.3 Report of the Chairman of the Plants Committee (Doc. 8.3). Tentative U.S. negotiating position: Most of this document is a report by the Chairman of her activities or a recounting of the proceedings of meetings of the Plants Committee, and therefore not requiring a position. The outcomes of some of the Plants Committee deliberations are reflected in other agenda items for CoP14, where they are elaborated more substantially. However, there are some specific recommendations contained in the report requiring a position. These (and the tentative U.S. position) include:

• A draft decision directed to range countries, regional Plants Committee representatives, and the Secretariat to address the management and enforcement needs of seven species of medicinal plants from Asia, and to report on progress to the Plants Committee at its 17th and 18th meetings (Support);

• Consideration by the Parties of ways to obtain identification materials for plants listed in the Appendices given that there is no longer a specific budget line for this activity (Support);

• A draft decision directed to the Plants Committee and the Secretariat to continue cooperation with the Convention on Biological Diversity on the Global Strategy for Plant Conservation (Support, as amended by the Secretariat);

• A draft decision directed to the Plants Committee to develop principles, criteria, and indicators for making non-detriment findings for timber and medicinal plant species (Support);

• Renewal of Decision 13.54, which directs the Plants Committee to continue to consider proposals to include additional timber species in the Appendices, based on the outcomes of regional workshops and other information (Support);

• Consideration that the Plants Committee's work under Decisions 13.51 and 13.52 regarding annotations of medicinal plants, Decision 13.60 related to Harpagophytum, and Decision 13.72 regarding monitoring effects of the revision of the definition of “artificially propagated” have been completed (Support);

• Draft decisions directed to the Parties and the Plants Committee to monitor the effects of exempting the artificially propagated hybrids of various orchid genera from CITES controls, and consideration of whether the exemption of hybrids of additional genera is advisable (Support); and

• Draft decisions directed to the Parties, Plants Committee, Secretariat, and inter-governmental and non-governmental organizations (IGOs and NGOs) to address various issues related to trade in agarwood, including capacity building, the making of non-detriment findings, information sharing, definition of terms relating to agarwood, development of identification and training materials, and recommendations on appropriate units of measure for agarwood, as well as consideration of potential annotations to exempt certain agarwood specimens from CITES controls (Support, but with reservations regarding the ability of the CoP to direct work to IGOs and NGOs, and also regarding the scope of work and potential budget implications).

8.4 Joint report of the Chairmen of the Animals and Plants Committees (Doc. 8.4). Tentative U.S. negotiating position: U.S. position: Much of this document is a report by the Chairmen of the Animals and Plants Committees recounting the proceedings of joint meetings of the two committees, and therefore not requiring a position. The outcomes of some of the deliberations of the two committees meeting in joint session are reflected in other agenda items for CoP14, where they are elaborated more substantially. However, there are some specific recommendations contained in the report requiring a position. These (and the tentative U.S. position) include:

• Recommended Rules of Procedure for the two committees, which follow longstanding practices and represent the committees' views with regard to a practicable adaptation of the Rules of Procedure for the Standing Committee (Support, with some amendments proposed by the Secretariat);

• A draft decision directed to the Secretariat to publish and distribute, subject to available funding, manuals for regional representatives to the committees in the three languages of the Convention (Support, as amended by the Secretariat);

• A recommendation to eliminate Resolution Conf. 13.10 on “Trade in invasive alien species” and incorporate elements of it into Resolution Conf. 10.4 on “Cooperation and synergy with the Convention on Biological Diversity,” to reflect the limited role CITES can play in addressing the problem of invasive species (Support); and

• Draft decisions directed to the Parties, Standing Committee, and Secretariat to provide support to the University of Córdoba and the International University of Andalusia (Spain) to support the continuation of the Master's course on “Management, Access and Conservation of Species in Trade” (Support).

8.5 Report of the Nomenclature Committee (Doc. 8.5). Tentative U.S. negotiating position: Undecided. The report contains numerous recommendations regarding the adoption of standard nomenclatural and taxonomic references for CITES-listed fauna and flora, and a program of work and proposed budget for the next intersessional period. We are still evaluating the references, and the proposed work and budget implications.

9. Committee Elections and Appointments

9.1 Standing Committee (No document). Tentative U.S. negotiating position: Support. Since the close of CoP13, the North American region has been represented on the Standing Committee by Canada, serving as the North American regional representative, and Mexico, serving as the alternate representative. Canada and Mexico will continue to serve in their current capacities until the end of CoP15.

9.2 Animals Committee (No document). Tentative U.S. negotiating position: Support. Since the close of CoP14, the North American region has been represented on the Animals Committee by Mr. Rodrigo A. Medellín of Mexico, serving as the North American regional representative, and up until May 2007, Mr. Robert R. Gabel of the United States, serving as the alternate representative. Mr. Gabel has now moved on to other duties as the Chief of the U.S. Management Authority, and as such, the United States will provide a new alternate representative who has yet to be determined.

9.3 Plants Committee (No document). Tentative U.S. negotiating position: Support. Since the close of CoP14, the North American region has been represented on the Plants Committee by Mr. Robert R. Gabel of the United States, serving as the North American regional representative, and Dr. Adrianne Sinclair, of Canada, serving as the alternate representative.

9.4 Nomenclature Committee (No document). Tentative U.S. negotiating position: Support. In its report to the CoP, the Nomenclature Committee recommends, as also recommended in CoP14 Doc. 12 (on review of the scientific committees), submitted by the Standing Committee, that the Nomenclature Committee be re-characterized as a working group of the Animals and Plants Committees. However, we anticipate that this will have little effect on the operation of the Nomenclature Committee, and we expect the current Chairmen of this committee, Dr. Ute Grimm of Germany (co-Chairman for Fauna) and Dr. Noel McGuff of the United Kingdom (co-Chairman for Flora), to continue in their positions, regardless of how this body is characterized.

Strategic Matters

11. CITES Strategic Vision: 2008-2013 (Doc. 11). Tentative U.S. negotiating position: While the United States supports the revision and updating of both CITES' Strategic Plan and the accompanying Action Plan, we have significant concerns related to the revisions proposed in Document CoP14 Doc. 11, which we communicated in comments to the Strategic Plan Working Group (SPWG) following the 54th meeting of the CITES Standing Committee (SC54). CITES developed its current (and first) “Strategic Vision Through 2005” when the United States chaired the Standing Committee. This earlier document was adopted at CoP11 and was closely linked to an Action Plan, with practical and measurable steps for the Parties, Secretariat, and other entities. The Action Plan was developed in concert with the Strategic Vision to provide evidence that the goals of the latter were being met. At CoP13 the Parties adopted Decision 13.1, which extended the Strategic Vision through CoP14, but also set in motion the process to revise and update both the Strategic Vision and the Action Plan. Document CoP14 Doc. 11 represents the output of the SPWG, taking into account the comments received from Parties and NGOs on the draft Strategic Plan after SC54. The SPWG has also prepared a draft resolution for consideration by the Parties at CoP14 (Document Doc. 11 Annex, p. 4), and the “CITES Strategic Vision: 2008-2013” is included as a sub-annex to that document (pp. 5-12). While the SPWG accepted some of the comments of the United States in preparing this document, we remain concerned that the document would direct CITES away from its core mission of monitoring and controlling international trade in wildlife and plants. Although the “CITES Strategic Vision: 2008-2013” does not prescribe or proscribe specific actions by the Parties, if adopted, it is intended to provide guidance for the evolution of CITES through 2013.

12. Review of the scientific committees (Doc. 12). Tentative U.S. negotiating position: Support. This document is submitted by the Standing Committee. At SC54 in October 2006, the Committee adopted the recommendations of an External Evaluation Working Group's review of the CITES scientific committees (Animals, Plants, and Nomenclature), and agreed to propose to CoP14 pertinent modifications to Resolution Conf. 11.1 (Rev. CoP13) and 12.11 (Rev. CoP13). The United States supports adoption of the Standing Committee's recommendations that will enhance the work and efficiency of the scientific committees. However, the United States disagrees with the Secretariat's suggestion to merge the scientific committees.

13. Addis Ababa Principles and Guidelines for the Sustainable Use of Biodiversity (Doc. 13). Tentative U.S. negotiating position: Support. Document CoP14 Doc. 13 was prepared by the Plants and Animals Committees, and is based on the outcome of discussions at the 22nd meeting of the Animals Committee and 16th meeting of the Plants Committee (PC16—Lima, Peru; July 2006). The committees focused on the applicability of the Addis Ababa Principles and Guidelines for the Sustainable Use of Biodiversity (Addis Ababa Principles) to the making of non-detriment findings, and concluded that not all of the principles and guidelines are directly relevant. The committees proposed that Resolution Conf. 10.4 be amended to acknowledge the use of the Addis Ababa Principles as a voluntary additional tool that can be used in making non-detriment findings. The United States agrees with the committees' conclusion that the Addis Ababa Principles are not always applicable to the decision making process under CITES, and supports the proposal to consider them as a voluntary additional tool that can be used in making non-detriment findings.

14. CITES and livelihoods (Doc. 14; Argentina, China, Germany on behalf of the European Community Member States, and Nicaragua). Tentative U.S. negotiating position: Support. In Document CoP14 Doc. 14, the proponents summarize the outcomes and recommendations from the CITES and Livelihoods Workshop (Cape Town, South Africa; September 2006), and propose two draft decisions that build on those recommendations. The first draft decision directs the Standing Committee to assist in the development of tools and guidelines for the Parties to use in examining the impacts of CITES regulation on human well-being and the livelihoods of the poor. The second draft decision directs the Secretariat to provide an assessment of the ways in which the implementation of CITES has taken, or could take, into account these impacts on the livelihoods of the poor. Although we are supportive of considering human well-being and livelihoods in the implementation of CITES, these considerations should be separate from the objective scientific assessments required for listings and making non-detriment findings. We are also concerned about the budget implications of the proposed Decisions in this document.

15. National wildlife trade policy reviews (Doc. 15). Tentative U.S. negotiating position: Support. In Document CoP14 Doc. 15, the CITES Secretariat reported on progress made in implementing Decisions 13.74 and 13.75 and that the four pilot countries interested in undertaking wildlife trade policy reviews, will be provided an opportunity to share compiled and synthesized information on the initial results from their wildlife trade policy reviews at a CoP14 side event. The Secretariat further recommends that interested importing countries carry out national wildlife policy reviews in order to provide a balanced view to exporting countries and facilitate a better understanding of wildlife trade policy at both ends of the international wildlife trade (supply and demand), and invites donors to provide financial support to countries interested in preparing these reviews. The Secretariat recommends renewing the deadlines in Resolution Conf. 13.74 for reporting to the Standing Committee and Conference of the Parties to SC57 and CoP15, and deleting a recommendation calling for submission of project proposals in order to seek financial support for preparation of trade policy reviews in interested countries.

The United States looks forward to reviewing the results achieved with the four pilot countries. However, given the overall lackluster response of the Parties (7 out of 171 Parties expressed interest), this is not high priority work of the CITES Secretariat. Implementation of the Secretariat's recommendations would have budgetary implications that must be weighed against priorities that are more urgent.

16. Capacity building (Doc. 16). Tentative U.S. negotiating position: Oppose. This document from the CITES Secretariat proposes the creation of an interactive CITES Virtual College for basic and more advanced training in the Convention over the Internet. The Secretariat proposes that this program could be linked to academic institutions. In Document CoP14 Doc. 7.3 Annex 1, the CITES Secretariat estimates that it would cost close to $1.6 million to run this program from 2009 through 2011. While the United States has always, and continues to be, a strong supporter and proponent of training in the implementation and enforcement of CITES, we do not support such an initiative with such significant budget implications. There are already similar educational and capacity-building programs and mechanisms that would be duplicated by the development of such a program at the Secretariat (e.g., the Masters and Doctoral courses conducted by the International University of Andalucia, and current U.S. training offered in connection to Regional Free Trade Agreements).

17. Cooperation between Parties and promotion of multilateral measures (Doc. 17). Tentative U.S. negotiating position: Undecided. At the time this notice was prepared, this document had not been posted on the Secretariat's Web site.

18. Cooperation With Other Organizations

18.1 Cooperation with the Food and Agriculture Organization of the United Nations (Doc. 18.1). Tentative U.S. negotiating position: Undecided on establishment of a Fishery Working Group within CITES; support strengthening cooperation between CITES and United Nations Food and Agriculture Organization (FAO) with regard to forestry and non-timber forest products, but opposed to formalization of the relationship through a Memorandum of Understanding (MoU). This document was submitted by the CITES Secretariat. It provides a history of the collaboration between CITES and FAO regarding marine listing and implementation issues, and summarizes cooperative activities in recent years related to queen conch, sturgeons, sharks, sea cucumbers, and other species. Pointing to the success of collaborative efforts between CITES and FAO on marine issues, the Secretariat recommends strengthening cooperation with FAO on issues related to forestry and non-timber forest products. The document includes draft decisions for consideration by the Parties at CoP14. One of these decisions directs the Secretariat to initiate discussions with FAO on strengthening and formalizing cooperation between CITES and FAO with regard to forestry and non-timber forest products. Another, directed to the Standing Committee, would establish a Fishery Working Group to address practical issues related to the implementation of the Treaty for fish and marine invertebrates.

The United States endorsed the establishment of the MoU with FAO on marine issues that was finalized at SC54, and we fully support ongoing cooperation between CITES and FAO regarding marine issues. FAO has provided valuable advice and assistance to CITES on a number of marine issues, including the development of listing criteria for marine species and the formation of ad hoc expert advisory panels to evaluate marine listing proposals prior to a CoP. We have endorsed the idea of a marine working group in the past; in fact, at CoP10, the United States submitted a document calling for the Standing Committee to establish a temporary working group for marine fish species. However, given the formalized cooperative arrangement with FAO, ongoing work in the Animals Committee, and the desire to avoid duplication of effort, we are uncertain of the need for establishing a Fishery Working Group within CITES at this time. No information has been provided regarding the proposed composition or the mandate of such a group. We will develop a position as more information becomes available.

The International Tropical Timber Organization (ITTO) promotes the conservation and sustainable management of and trade in tropical forest resources. We submitted a document for consideration at CoP14 (Doc. 18.2) that recognizes the importance of close cooperation between CITES and ITTO in the consideration and implementation of CITES listings of tropical timber species and recommends strengthening the cooperation between the CITES and ITTO Secretariats. While we would also support increased cooperation between CITES and ITTO regarding forestry and non-timber forest products, we do not believe that it is necessary to formalize the relationship through a MoU.

18.3 Statements from representatives of other conventions and agreements (No document). Tentative U.S. negotiating position: Not applicable.

19. Dialogue Meetings

19.1 Terms of reference for CITES dialogue meetings (Doc. 19.1). Tentative U.S. negotiating position: Support. Range country dialogue meetings have occurred for the African elephant since 1996 and hawksbill sea turtles since 2001. The Standing Committee instructed the Secretariat to draft terms of reference for the organization and conduct of dialogue meetings for any taxon. The Secretariat's draft was reviewed at SC50 and approved with amendments at SC53 (July 2005). The Standing Committee agreed with the Secretariat that the revised document should be the basis for a draft resolution at CoP14. This document incorporates the suggestions from the Standing Committee and describes what a dialogue meeting is, who may call a dialogue meeting, the organization of the meeting, how decisions are made and communicated, and how the rules of procedure may be amended. The United States participated in the SC53 discussions and generally supports the document.

19.2 Results of the dialogue meeting on the African elephant (Doc. 19.2). Tentative U.S. negotiating position: Not applicable. The African elephant dialogue meeting is scheduled to be held in The Hague, The Netherlands, immediately prior to the start of CoP14. When the document is available, we will review it closely and develop our position. We support the range States dialogue process for debating multinational species issues, and the United States provided funding for this meeting through a grant under the African Elephant Conservation Act.

Interpretation and Implementation of the Convention

Review of Resolutions and Decisions

20. Review of Resolutions

20.1 Resolutions relating to Appendix-I species (Doc. 20.1). Tentative U.S. negotiating position: Support. In Document CoP14 Doc. 20.1, the Secretariat puts forward two draft consolidated resolutions relating to Appendix-I species. The first draft resolution is a consolidation of the resolutions related to hunting trophies for Appendix-I species, and the second draft resolution consolidates the resolutions related to the conservation of and trade in specimens of specific Appendix-I species. The United States has long supported the efforts to consolidate resolutions related to Appendix-I species, as long as such an approach continues to allow for the elaboration of specific measures that may be needed for individual species and does not result in a generic approach to the conservation of these rare and endangered species.

20.2 General review (Doc. 20.2). Tentative U.S. negotiating position: Undecided. At the time this notice was prepared, Document CoP14 Doc. 20.2 was not available for review on the Secretariat's Web site. Prior to CoP12, the Secretariat began a review of the existing CITES resolutions to identify those that were difficult to implement, redundant with other resolutions, or with outdated text. At CoP12 and again at CoP13, the Secretariat proposed changes to and consolidations of sections of several resolutions, which the Parties considered, and some of which the Parties adopted. With Document CoP14 Doc. 20.2, the Secretariat is continuing this review process by identifying a number of resolutions for which it has proposed changes, consolidations, or transfers of text to other resolutions.

21. Revision of Resolution Conf. 11.16 on ranching and trade in ranched specimens of species transferred from Appendix I to Appendix II (Doc. 21). Tentative U.S. negotiating position: Oppose, but agree with some aspects. While the United States agrees that reporting requirements should request only appropriate information that is used to monitor ranching operations and to determine that such operations continue to meet the requirements agreed by the Parties in Resolution Conf. 11.16, we do not agree with eliminating the collection of needed information based on Parties' inability or unwillingness to submit a complete report. Annual reporting must include sufficient information to determine if ranching operations are having an adverse effect on wild populations and that population trends are stable or increasing.

Regarding the revision to the definition of “ranching,” the United States agrees that the definition should be amended, but does not accept the proposed definition. The Parties should postpone a revision of the definition of “ranching” in Resolution Conf. 11.16 until consideration of Document CoP14 Doc. 38, and if agreed, the review proposed in that document has been completed.

22. Review of Decisions (Doc. 22). Tentative U.S. negotiating position: Undecided. At the time this notice was prepared, Document CoP14 Doc. 22 was not available for review on the Secretariat's Web site. At CoP13, the Parties reviewed the current CITES decisions to identify those that were long term in nature. For these long-term decisions, the Parties adopted the transfer of their text into new or existing resolutions. With Document CoP14 Doc. 22, the Secretariat is continuing this process by identifying existing decisions that are intended to be valid for a long term and making proposals for the transfer of the relevant texts of these decisions into new or existing resolutions.

Compliance and Enforcement Issues

23. Guidelines for compliance with the Convention (Doc. 23). Tentative U.S. negotiating position: Support. At CoP12, the Parties directed the Standing Committee to develop guidelines for compliance with the Convention and a working group was established at SC50 to accomplish the task. The United States has been an active member of the Working Group on Compliance and supports completion of the draft guidelines at CoP14. The existing compliance mechanisms in the Treaty and resolutions are effective and appropriate. We have worked to ensure that the guidelines for compliance accurately describe those mechanisms and do not go beyond what already exists by introducing new mechanisms or procedures. Although significant progress was made and agreement was reached on most of the text, some areas of disagreement remained after SC54. Document CoP14 Doc. 23 was prepared by the Chairman of the Working Group on Compliance and includes the draft guidelines and the Chairman's recommendations for resolving remaining areas of disagreement. The United States supports his recommendations because they focus the guidelines on describing existing practice instead of creating new compliance procedures.

24. National laws for implementation of the Convention (Doc. 24). Tentative U.S. negotiating position: Undecided. At the time this notice was prepared, this document had not been posted on the Secretariat's Web site. The United States strongly believes that the Convention's effectiveness is undermined when Party States do not have adequate national laws in place for implementing CITES, and we have previously supported action by the Conference of the Parties to compel Parties to adopt effective CITES implementing legislation.

25. Enforcement matters (Doc. 25). Tentative U.S. negotiating position: Support. The United States supports the proposed decisions relating to a meeting of the CITES Enforcement Experts Group and the suggestion that Resolution Conf. 11.3 be revised. The United States agrees that existing efforts to capture illegal trade information have largely been unsuccessful and welcomes an opportunity to discuss the issue so that illegal trade activities are better understood and enforcement efforts to combat them are made more effective. The United States also concurs with the Secretariat's assessment that, despite remarkable efforts by dedicated wildlife enforcement officers around the world, governments need to raise the profile of wildlife enforcement and ensure that sufficient resources are devoted to interdiction of illegal trade and prosecution of wildlife criminals.

26. Compliance and enforcement (Doc. 26; Germany, on behalf of the European Community Member States). Tentative U.S. negotiating position: Partial support. The United States agrees with many of the Secretariat's concerns. The United States does not believe it is necessary, at this point, to establish a permanent Enforcement Experts Group. However, a second meeting of this group is warranted to follow up on previous recommendations and take up some of the issues identified in this document as well as enforcement-related documents, such as Document CoP14 Doc. 25 and Document CoP14 Doc. 28.

27. Disposal of illegally traded and confiscated specimens of Appendix-II and -III species (Doc. 27; Indonesia). Tentative U.S. negotiating position: Oppose. The United States does not support the proposed decision directed to the Standing Committee regarding amendments to Resolution Conf. 9.10 (Rev. CoP13). Some of the issues raised in Document CoP14 Doc. 27 and the proposed decision are clearly addressed in existing resolutions. In addition, several of the issues identified as possible amendments would raise enormous logistical, financial, and workload challenges that would substantially outweigh any possible conservation benefit for Parties that regularly confiscate large volumes of wildlife. The proposed amendments to Resolution Conf. 9.10 (Rev. CoP13) included in this document, if adopted, could have a negative conservation impact by discouraging Parties from confiscating illegally traded wildlife if they were required to take on the substantial logistical, financial, and workload burdens that would accompany these requirements.

28. Internet trade in specimens of CITES-listed species (Doc. 27; Germany, on behalf of the European Community Member States). Tentative U.S. negotiating position: Support. The United States is concerned about the role of the Internet in illegal wildlife trade and has already devoted enforcement resources to this issue. The United States supports the Secretariat's alternative draft decisions, which would be a more efficient and cost-effective approach to the workshop.

29. National reports (Doc. 29). Tentative U.S. negotiating position: Support with minor changes. With Document CoP14 Doc. 29, the Secretariat reports on progress it and the Parties have made since CoP13 in implementing Resolution Conf. 11.17 (Rev. CoP13) on national reports, and on progress it has made in implementing Decisions 13.90-13.92 on reporting requirements. The Secretariat recommends that the Parties consider adopting two draft decisions included in Annex 2 of Document CoP14 Doc. 29. The first draft decision, which the United States supports, would direct the Standing Committee to undertake a review of the CITES recommendations to Parties to provide special reports, assess whether they might be effectively incorporated into the annual and biennial reports, and report to CoP15 on its conclusions and recommendations. The second draft decision would direct the Secretariat to continue work directed under Decision 13.92 to facilitate the harmonization of knowledge management and reporting with other biodiversity-related conventions. This draft decision would continue work directed under Decision 13.90 to identify ways to reduce reporting burdens on Parties. The United States supports both of these aspects of the draft decision. However, the second point of the draft decision also directs the Secretariat to support the Standing Committee on electronic permitting. The United States recognizes the potential benefits electronic permitting could provide in relation to national reports, but we are concerned about the potential financial impact on some Parties and the limited capacity of many Parties to completely implement electronic permitting (see the U.S. position on Document CoP14 Doc. 40.1 and Document CoP14 Doc. 40.2). Therefore, the United States, while supportive of most of the text of the second draft decision, does not support inclusion of the phrase “* * * its support of the Standing Committee on electronic permitting* * *”

31. Monitoring of the implementation of the annotations to Euphorbia spp. and Orchidaceae spp. included in Appendix II (Doc. 31; Switzerland). Tentative U.S. negotiating position: Support. Switzerland has submitted a proposal for CoP14 to amend the annotation to Orchidaceae (Prop. 34), and another proposal to amend the annotation to Euphorbia spp. (Prop. 29). In Document CoP14 Doc. 31, Switzerland explains that, if these two proposals are adopted, then it would be appropriate to renew Decisions 13.98 and 13.99 to monitor the implementation of the amended orchid annotation, and also adopt similar decisions to monitor the implementation of the amended Euphorbia annotation. In the Annex to Document CoP14 Doc. 31, Switzerland provides the draft renewals of Decisions 13.98 and 13.99, plus two new similar draft decisions on the Euphorbia annotation. The United States agrees that, if the species proposals amending the Euphorbia annotation and the orchid annotation are adopted at CoP14, then the Parties should also adopt decisions to monitor the implementation of these amended annotations, in order to determine how effective they are and whether they are causing any significant enforcement difficulties. It is also the U.S. position that, if these two proposals are not adopted, Decisions 13.98 and 13.99 should still be continued.

32. Incentives for implementation of the Convention (Doc. 32). Tentative U.S. negotiating position: Oppose. Document CoP14 Doc. 32 reviews Decisions 13.76 and 13.77, and summarizes the issues involved in incentives for implementation of the convention. The Secretariat's lists numerous recommendations, including the creation of a working group to identify options for CITES Authorities in designing and using specific incentive measures.

While the United States does not have any fundamental objections to the use of economic incentives to further wildlife conservation in the context of CITES, the text of the Convention is silent on this matter. Although careful and detailed consideration must be given by the Parties prior to incorporating these concepts and specific recommendations into the body of CITES soft law, we note that the Secretariat's report indicates that there was no response from Parties to the Notification calling for submissions on economic incentives (2005/022). We, therefore, have questions about the value of this work to the CITES Parties. The report presents interesting information to the Parties, but given the lack of interest, this work can be successfully brought to a close and this agenda topic retired. Specific work, such as the survey of fee structures is valuable in its own right as an implementation item, but other proposed decision elements directed to the Standing Committee, the Parties, and the Secretariat are not a priority and should not be supported.

Trade Control and Marking Issues

33. Introduction from the sea (Doc. 33). Tentative U.S. negotiating position: Support. This document was prepared by the CITES Secretariat on behalf of the Standing Committee and reports on progress made since CoP13 on issues related to introduction from the sea. In 2005, a workshop on introduction from the sea was convened in accordance with Decision 13.18. The report of the workshop, the comments received on the report, and a draft resolution and draft decision prepared by the Secretariat were considered at SC54. It was agreed that a working group would work electronically to refine the definition of the “marine environment not under the jurisdiction of any State” based on issues raised at SC54 and comments on the workshop report. Document CoP14 Doc. 33 includes a draft resolution that contains both the definition agreed by the workshop and an alternative definition put forward by the working group. The Standing Committee recommends that the CoP reach agreement on the bracketed text and adopt the resolution to provide a definition of the “marine environment not under the jurisdiction of any State.” The United States has been actively involved in discussions related to introduction from the sea since the drafting of the Treaty, and we strongly support continuing efforts to achieve common understanding of the practical application of the introduction from the sea provision under CITES. We participated in the 2005 workshop and the electronic working group following SC54. We strongly support adoption of the draft resolution with the alternative definition put forward by the working group in place of the definition agreed at the 2005 workshop.

Document CoP14 Doc. 33 also includes a draft decision directed to the Standing Committee. The decision calls for the establishment of a working group on introduction from the sea, to work primarily through electronic means, to consider further clarification of terms and other issues identified in the 2005 workshop report. The working group would be asked to report its findings to CoP15. The United States believes that, given the increasing number of listing proposals for marine species at recent CoPs, continued work on the practical implementation of the introduction from the sea provision is important, and we therefore support the formation of such a working group.

34. Trade in Appendix-I species (Doc. 34). Tentative U.S. negotiating position: Based on the results of the United Nations Environment Programme World Conservation Monitoring Centre (UNEP-WCMC) analysis reported at SC54, most trade in Appendix-I species reported by the Parties is conducted appropriately. However, UNEP-WCMC noted that further clarification of the purpose of transaction codes would be useful, and that countries also need to show greater care in applying source codes. The United States supports the need to clarify further the use of certain purpose of transaction and source codes so that there is more uniformity in how codes are used. As identified in Document CoP14 Doc. 38, the Animals Committee and Plants Committee were unable to make significant progress on production systems and source codes and have proposed a more narrow scope of work to develop a definition of ranching for application to CITES for CoP15. The United States submitted a document (CoP14 Doc. 39) proposing refinements to the purpose of transaction codes, to eliminate duplicities and ensure better usage by the Parties.

35. International expert workshop on non-detriment findings (Doc. 35; Mexico). Tentative U.S. negotiating position: Support. The Scientific Authority of each Party is required to make non-detriment findings for species listed in Appendix I and Appendix II. However, many countries lack financial and technical resources and expertise to fully meet this obligation. The proposed workshop on making CITES non-detriment findings will improve Parties abilities to make scientifically sound findings, build regional capacity, and foster greater cooperation among Parties to effectively implement the Convention.

The proposed workshop is an initiative that grew out of discussions among the three Parties in the North American Region of CITES—Canada, Mexico, and the United States. The United States is fully supportive of this workshop. We believe that strengthening the capacities of CITES Scientific Authorities will help to ensure that trade in CITES-listed species does not occur at levels that threaten their survival.

36. Management of annual export quotas (Doc. 36). Tentative U.S. negotiating position: Support, provided negotiated changes to the text of the draft resolution will advance and support the establishment, implementation, and monitoring of nationally established export quotas for Appendix-II species. The United States initiated discussion of this issue at CoP12 and has been an active participant in the Standing Committee's Export Quota Working Group (EQWG). This document accurately reflects the discussions of the EQWG since CoP13, which has made significant progress in developing a draft resolution and amendments to existing resolutions that would cover this issue. Although substantive issues remain unresolved, as reflected in Document CoP14 Doc. 36, the United States hopes that, with further discussion at CoP14, a final draft resolution can be agreed and adopted. The United States has participated in these deliberations with a goal of ensuring that export quotas for CITES-listed species provide a meaningful tool for monitoring and controlling trade by providing a feedback mechanism for importing countries to communicate irregularities and potential illegal trade to exporting countries.

37. Appendix-I Species Subject to Export Quotas

37.1 Leopard export quotas for Mozambique (Doc. 37.1; Mozambique). Tentative U.S. negotiating position: Oppose. In this document, Mozambique proposes to increase its export quota for leopard hunting trophies and skins for personal use from 60 to 120. The United States, as reflected in the document we submitted for CoP12 on establishing scientifically based quotas, and in accordance with Resolution Conf. 9.21 (Rev. CoP13), which calls for establishment of a scientific basis for proposed quotas, is very interested in ensuring that annual export quotas are established on strong biological data. Mozambique's request does not provide enough biological information about the population of leopards or their prey in Mozambique to determine whether the population can be sustained under the proposed quota figure.

37.2 Black rhinoceros export quotas for Namibia and South Africa (Doc. 37.2; Kenya). Tentative U.S. negotiating position: Undecided. Kenya is proposing to rescind Resolution Conf. 13.5, which allows Namibia and South Africa to export five black rhino sport-hunted trophies annually. Kenya has provided information about management problems in Namibia and increased levels of rhino poaching in South Africa since the exports were approved at CoP13 in 2004. However, this information is contradicted by a report on the status and trade of rhinos produced by the IUCN-SSC's African Rhino Specialist Group (CoP14 Doc. 54), which reports an increase in the black rhino population in both countries and very limited rhino poaching in Namibia or South Africa. Although Kenya fails to provide information to show that the existing quota is biologically unsustainable or that range-wide poaching of black rhinos has increased as a result of the export of sport-hunted trophies, their document does raise questions that should be addressed by Namibia and South Africa prior to the United States finalizing its position on this document. It should be noted that this species is listed as endangered under the Endangered Species Act and that the import of a black rhinoceros sport-hunted trophy into the United States must meet additional regulatory requirements.

38. Production systems for specimens of CITES-listed species (Doc. 38). Tentative U.S. negotiating position: Support. The United States has been an active participant in the discussion of production systems and source codes, by chairing an intersessional joint working group of the Animals and Plants Committees on the subject. We agree that additional discussions with a narrower focus on ranching are warranted, as described in the document.

40. Electronic Permitting

40.1 Report of the Secretariat (Doc. 40.1). Tentative U.S. negotiating position: Oppose. The United States believes that the majority of Parties do not and will not have the technological or financial support to fully implement an electronic permitting system, now or in the near future. Given the complexity of this effort and the current state of technology, the United States believes that this does not represent a high-priority activity at this time, particularly given the current budget atmosphere.

40.2 Report of the Standing Committee's Working Group (Doc. 40.2). Tentative U.S. negotiating position: Oppose. See discussion on Document CoP14 Doc. 40.1 above.

41. Transport of live specimens (Doc. 41). Tentative U.S. negotiating position: Support. In Document CoP14 Doc. 41 (Rev. 1), the Secretariat summarizes work done by the Transport Working Group and presents a revision of Resolution Conf. 10.21 on “Transport of live animals” to “Transport of live specimens” by including the transport of plants. Other changes would limit review of shipment mortality to only those shipments with high mortality.

The United States is generally in favor of the revisions to Resolution Conf. 10.21, in particular the inclusion of plants, which will result in a more comprehensive resolution. While the United States continues to be interested in all mortality during shipment, we realize that this presents a burden on already-taxed inspectors and customs officials, and agree with the new language in the revision that calls for the Animals and Plants Committees to examine high-mortality shipments of live specimens.

The United States is in favor of efforts to provide comprehensive information on the best methods for live animal and plant transport. The requirements in the International Air Transport Association (IATA) Live Animals Regulations (LAR), while used specifically for air transport, are in most cases appropriate for non-air transport (road, rail, and sea). The World Organisation for Animal Health (OIE)'s proposed Web site for non-air animal and plant transport methods would be useful as a supplement for alternative transport methods to those described in the IATA-LAR, provided it addresses the challenges presented with the transport of live captive and wild CITES-listed taxa that require special attention for non-air transport methods (e.g., duration of transit time, environmental conditions, and conveyance vehicles).

42. Physical inspection of timber shipments (Doc. 42; Germany, on behalf of the European Community Member States). Tentative U.S. negotiating position: Support. Document CoP14 Doc. 42 details a number of problems faced by CITES inspection officials at ports of import and export in inspecting, identifying, and measuring the volume of CITES timber shipments. Document CoP14 Doc. 42 recommends that CITES take action to provide guidance to the Parties on enforcement of timber listings and focuses on identification and the development of a methodology for the physical inspection of timber shipments. The document contains two draft decisions in the Annex. The first draft decision would direct the Secretariat, in consultation with the Plants Committee, CITES Parties, and relevant organizations, to identify existing timber identification tools for CITES-listed species and identify ways that these tools can be accessed by CITES inspection authorities. This decision would further direct the Secretariat to identify gaps for which additional work is needed to develop timber identification tools; the Secretariat is then to report its findings to the Standing Committee. The second draft decision would direct the Standing Committee, in consultation with the Secretariat, range countries, and other Parties and relevant organizations, to develop guidelines for the enforcement of timber listings and to focus on the development of a methodology to carry out physical inspections of timber shipments.

44. Identification Manual (Doc. 44). Tentative U.S. negotiating position: Support. This document is a report from the Secretariat on progress in the development of identification materials for listed species. We are nearing completion of an identification sheet for paddlefish (Polyodon spathula) and plan to submit the sheet to the CITES Secretariat later this year. On December 16, 2005, we listed the alligator snapping turtle (Macroclemys temminckii) and all species of map turtles (Graptemys spp.) in Appendix III of CITES. We are currently working with the University of Kansas to draft identification sheets for those species. We will continue to address the remaining CITES-listed species for which the United States is responsible for providing identification materials.

Exemptions and Special Trade Provisions

45. Personal and household effects (Doc. 45). Tentative U.S. negotiating position: Support. This document contains a proposal from the Standing Committee's Personal and Household Effects Working Group to amend Resolution Conf. 13.7 (on control of trade in personal and household effects) to facilitate trade in personally owned specimens of certain CITES-listed species. The United States has been an active participant in this working group since it was established in 2006. The United States believes that the list of exempted items is a useful tool in implementing the Convention. We also believe that, although additions to the list may be appropriate in certain limited circumstances, any substantial increase in the number of items included in the list is likely to create confusion and enforcement problems. The United States supports development of a careful and deliberative process to amend the list.

46. Trade in some crocodilian specimens (Doc. 46; Germany, on behalf of the European Community Member States). Tentative U.S. negotiating position: Oppose. The basic contention of the document is that the implementation of Resolution Conf. 11.12 is working so well that the issuance of re-export documents for finished crocodilian leather products is an expensive, unnecessary redundancy. This proposal is inconsistent with CITES Article I(b)(ii), which requires that readily recognizable parts and derivatives of animal species listed in Appendices I and II are considered specimens that are subject to the provisions of the Convention. The proponents have not argued or presented information to suggest that these specimens are not readily recognizable. We are unconvinced that the issuance of re-export documents for finished crocodilian leather products is unnecessarily redundant. Furthermore, we believe that adoption of such a proposal would establish a dangerous precedent that some Parties may wish to apply to the finished products of other CITES-listed species.

47. Applications to register operations that breed Appendix-I animal species in captivity for commercial purposes (Doc. 47). Tentative U.S. negotiating position: Oppose. This document refers to Notification to the Parties Nos. 2004/054 and 2005/48, requests by the Management Authority of the Philippines to register a captive-breeding operation for the following birds: Amazona ochrocephala auropalliata, Amazona ochrocephala oratrix, Amazona viridigenalis, Anodorhynchus hyacinthinus, Ara militaris, Ara rubrogenys, Cacatua goffini, and Propyrrhura maracana. We are unable to support the approval of this operation for these eight species because the applications did not provide sufficient documentation on legal acquisition of the parental stock. Although documentation was provided, it is not specific to the species involved and refers only generically to parrots. Further, no documentation is provided to show that the parental stock was legally exported from range countries. Therefore, the captive-breeding operation does not meet the bred-in-captivity criteria of Resolution Conf. 10.16 (Rev.), specifically paragraph (b)(ii)A, which requires that the breeding stock must have been established “in accordance with CITES and relevant national laws.” Approval of this operation in the absence of documentation of legal origin of its stock could potentially set a precedent for approving other captive-breeding operations that similarly lack such documentation.

48. Relationship between ex situ production and in situ conservation: report of the Standing Committee (Doc. 48). Tentative U.S. negotiating position: Document CoP14 Doc. 48 contains recommendations of the Standing Committee's Clearing House. As a member of the Clearing House, the United States provided technical comments on the version of this document presented to the Standing Committee for SC54. The United States agrees with the CITES Secretariat that the issues raised by the relationship between ex situ production methods and in situ conservation efforts (for CITES-listed species) are interesting. However, we believe that the Parties must carefully consider, in light of current budgetary constraints, whether the recommended study represents a high-priority activity and will support the core purposes and functions of CITES.

49. Reservations regarding species transferred from one Appendix to another (Doc. 49). Tentative U.S. negotiating position: Support. The Convention provides three provisions under which a Party may take a reservation: (1) Article XXIII provides for a new Party to take a reservation with respect to a species listed in Appendix I, II, or III, within 90 days after the date that the Party deposits its instrument of ratification; (2) Article XV provides for a Party to take a reservation to an adopted amendment to Appendix I or II, within 90 days after the CoP at which the amendment was adopted; and (3) Article XVI provides for a Party to take a reservation on a species listed in Appendix III, or on any parts or derivatives of that species, at any time after the listing of the species. With Document CoP14 Doc. 49, the Secretariat presents a draft revision to Resolution Conf. 4.25 to clarify that, in cases where a Party holds a reservation in relation to a species that is subsequently transferred from one Appendix to another (or in other words deleted from one Appendix and simultaneously added to another Appendix), the reservation will be considered as no longer valid, and the Party will need to enter a new reservation if it wishes to maintain the reservation on the species. In the draft revision, the Secretariat also proposes to combine the two existing recommendations in Resolution Conf. 4.25 to shorten and simplify the text.

Species Trade and Conservation Issues

50. Great apes (Doc. 50). Tentative U.S. negotiating position: Undecided until certain reports are made available to the CITES Secretariat and reviewed. In Document CoP14 Doc. 50 the CITES Secretariat reviews activities involving great apes.

At SC54, held in October 2006, the Secretariat expressed its concern regarding a lack of information relating to orangutans that had been illegally imported into Cambodia and questioned whether the Convention was being adequately implemented. The Standing Committee called upon Cambodia to facilitate a mission by the Secretariat to assess implementation of the Convention, but to date the request has not been answered. The Secretariat will report on this subject at CoP14 and also has expressed its concerns regarding illicit trade in great apes by Egypt. The Standing Committee requested Egypt to prepare a report for CoP14 on its enforcement of the Convention, particularly with regard to the illicit trade in primates. The report has not yet been prepared. The Standing Committee recommended that the Conference of the Parties review the reports concerning Cambodia and Egypt and decide whether additional measures, including non-compliance measures or a verification mission by the Secretariat, are necessary.

The United States is unable to determine a definite position until the reports requested by the Secretariat from Cambodia and Egypt concerning reports on illegal trade in primates can be reviewed. The United States takes non-compliance issues very seriously and will look closely at the responses and reports requested from Cambodia and Egypt. The United States has been supportive of past actions recommended by the Secretariat in response to non-compliance issues, and unless there are circumstances that would warrant otherwise, we expect to continue our support of the Secretariat's recommendations.

51. Cetaceans (Doc. 51; Japan). Tentative U.S. negotiating position: Oppose. This document contains two draft decisions that, if adopted, would direct the Animals Committee to include in its Review of the Appendices all cetaceans in Appendix I that are managed by the International Whaling Commission (IWC). The second draft decision would direct the CITES Secretariat to write to the IWC Secretariat conveying the concern of the Conference of the Parties regarding the postponement of the Revised Management Scheme discussions. The United States believes it is doubtful that any new and compelling information would be revealed by this review, since the whale species most highly traded have been carefully reviewed by the IWC Scientific Committee and have been under almost continuous scrutiny by the Parties since CoP9 in 1994.

52. Asian big cats (Doc. 52). Tentative U.S. negotiating position: Support. In Document CoP14 Doc. 52, the Secretariat notes that several countries have achieved success in halting the downward population trend for wild tigers by using well-equipped and trained anti-poaching units. However, the Secretariat contends that, despite all the attention and money that have been put towards conserving tigers, wild tiger populations are probably at greater risk of extinction today than ever before. Unless the CoP can identify any new approach to the conservation of Asian big cat species, the Secretariat sees little option other than for the Parties to renew their efforts to eliminate illicit trade in specimens of these species.

53. Elephants

53.1 Trade in elephant specimens (Doc. 53.1). Tentative U.S. negotiating position: Undecided, pending the outcome of the African elephant range States dialogue meeting and discussions at SC55. This document was submitted by the Secretariat to report on a number of items related to both domestic and international ivory trade. Specifically, the document provides information on accomplishments achieved under the Action Plan for the control of trade in African elephant ivory, adopted at CoP13; the Secretariat's efforts to verify if certain conditions have been met to allow international trade from government-owned ivory stocks for certain countries, in line with the annotation adopted at CoP12; a review of the implementation of ivory trade controls in Zimbabwe; and a number of recent items related to illegal international trade in ivory. The Secretariat will report orally on this subject at CoP14 and make specific recommendations at that time. The United States will formulate its position based on the results of the African elephant range States dialogue meeting and reports expected at SC55 and CoP14.

53.2 Monitoring of illegal trade in ivory and other elephant specimens (Doc. 53.2). Tentative U.S. negotiating position: Undecided. At the time this notice was prepared, this document had not been posted on the Secretariat's website.

53.3 Monitoring of illegal hunting in elephant range States (Doc. 53.3). Tentative U.S. negotiating position: Undecided. This document was prepared by the Secretariat to report on progress since CoP13 in implementing the MIKE (Monitoring the Illegal Killing of Elephants) program. At SC54, the Committee agreed that MIKE baseline information was not yet complete (a condition required before the ivory sale agreed at CoP12 may take place) and that the Secretariat should report on the MIKE baseline at SC55. The Secretariat notes in Document CoP14 Doc. 53.3 that the completed baseline information is ready to be presented at SC55. The document discusses MIKE activities since CoP13 and describes the current status of funding for the African and Asian MIKE programs. Although funding has been secured to support the MIKE program in Africa through 2011, the Secretariat is seeking $4 million to support MIKE activities in Asia for the period 2007-2011. The Secretariat will report orally on this subject at CoP14, including information on the outcomes of the baseline discussions at SC54 and fund-raising efforts. The United States will formulate its position based on the results of the African elephant range States dialogue meeting and reports expected at SC55 and CoP14.

53.4 Illegal ivory trade and control of internal markets (Doc. 53.4; Kenya and Mali). Tentative U.S. negotiating position: Undecided. This document submitted by Kenya and Mali is intended to support CoP14 Prop. 6. Document CoP14 Doc. 53.4 chronicles ivory seizures since CoP13 and provides information on domestic ivory markets around the world. Kenya and Mali propose amendments to Resolution Conf. 10.10 (Rev. CoP12), including a recommendation that Parties whose elephant populations are listed in Appendix I not introduce proposals to transfer those populations to Appendix II for a period of 20 years and a 20-year moratorium on ivory trade from Appendix-II populations, except for non-commercial trade in hunting trophies and the sale approved at CoP12. The document also includes a draft decision urging ivory-importing countries and others to provide financial and technical support for implementation of the Action Plan for the control of trade in African elephant ivory. We appreciate the position of Kenya and Mali relative to conservation efforts for African elephants. However, we note that a 20-year ban on listing proposals may be contrary to Article XV of the Treaty, which provides for any Party to propose an amendment to Appendix I or II at any CoP. The United States will formulate its final position based on the results of the African elephant range States dialogue meeting and reports expected at SC55 and CoP14.

54. Rhinoceroses (Doc. 54). Tentative U.S. negotiating position: Support in principle, but financial decisions are still undecided. In Document CoP14 Doc. 54, the Secretariat reports on the outcome of the projects undertaken by IUCN and TRAFFIC related to the conservation of and trade in African and Asian rhinoceroses. The Secretariat proposes to incorporate the reporting role of the IUCN/SSC African and Asian Rhino Specialist Groups and TRAFFIC into Resolution Conf. 9.14 (Rev. CoP13). The Secretariat also proposes two draft decisions related to the continued illegal trade in rhinoceros horns and one draft decision related to site-based monitoring of rhinoceros populations. The Secretariat notes that there are substantial financial implications associated with adopting its recommendations on this issue. The United States applauds the work undertaken by IUCN and TRAFFIC and supports continued work in combating the illegal hunting and trade in rhinoceroses. However, with regard to the financial implications of adopting the recommendations in the document, we believe that any items related to budgeting and financing activities under CITES must be carefully considered by the Parties in light of other priorities.

55. Tibetan antelope (Doc. 55). Tentative U.S. negotiating position: Support. Resolution Conf. 11.8 (Rev. CoP13) instructed the Standing Committee to undertake a regular review of the enforcement measures taken by the Parties to eliminate illicit trade in Tibetan antelope products on the basis of the CITES Secretariat's report, and to report the results at each meeting of the Conference of the Parties. This document submitted by Secretariat summarizes the report.

56. Saiga antelope (Doc. 56). Tentative U.S. negotiating position: Support, with additions. This document refers to Decisions 13.27 through 13.35 on saiga antelope, which were to be implemented prior to CoP14. These interconnected decisions were directed to the range States of the saiga antelope (Kazakhstan, Mongolia, the Russian Federation, Turkmenistan and Uzbekistan, and possibly China), other Parties (specifically those that are important consumers of and traders in saiga products, and those that could act as financial donors) and bodies, the Standing Committee, and the CITES Secretariat to address serious concerns over the continuously deteriorating conservation status of the saiga antelope. This document reports on the progress in accomplishing these decisions over the past 3 years, and recommends additional draft decisions to the Parties to ensure the continued conservation of saiga antelope. The saiga antelope was listed in Appendix II in 1995. The most significant threat to the species is illegal hunting, primarily for the Asian traditional medicine trade. In the document, the Secretariat notes that anti-poaching efforts have intensified in some parts of the saiga's range, and should be extended to its entire range. We wish to underscore the significance of this statement, because poaching continues to impact conservation efforts to restore the saiga population, which decreased from one million to 30,000 animals in the 1990s. According to the Secretariat's document, the Russian Federation is the only range country that has not signed the Memorandum of Understanding (MoU) for the Conservation, Restoration and Sustainable Use of the Saiga Antelope (Saiga tatarica tatarica). The MoU contains a Saiga Action Plan that calls for measures to restore the habitat and populations of the saiga antelope, and enhance transboundary and international cooperation through, inter alia, a regional conservation and management strategy. Therefore, the Secretariat recommends that the Russian Federation sign the MoU as soon as possible. The United States has provided financial support for the conservation and protection of the saiga antelope in the wild and for the range States workshop on this species in May 2002 in Kalmykia. We support the Secretariat's recommendations and plan to suggest the inclusion of saiga antelope on the agenda of the Standing Committee meetings between CoP14 and CoP15.

57. Tortoises and freshwater turtles (Doc. 57). Tentative U.S. negotiating position: Undecided. The United States has been involved in developing CITES listing proposals and policy advice on the trade in tortoises and turtles for a number of years. While we generally do not have an objection to the amendments suggested by the Secretariat—provided they are endorsed by consensus by the Asian range and trading States—we are concerned that the CITES Parties have not paid sufficient attention to these trade problems after listing a number of Asian turtle species in Appendix II at CoPs 12 and 13. Due to the continuing and evolving trade in these species in Asia, including farming practices that may negatively impact wild populations, the United States believes that additional study and discussion of these problems is needed, and we plan to introduce this point at CoP14.

58. Hawksbill turtle (Doc. 58). Tentative U.S. negotiating position: Support. We agree with the Secretariat that no further action is needed. No funding was found for the convening of a workshop to develop a collaborative regional strategy for the conservation of hawksbill sea turtles, perhaps because it is regulation of international trade and not management that is the main responsibility of CITES. However, the Inter-American Convention for the Protection and Conservation of Sea Turtles, at its last meeting passed a resolution calling for a workshop to evaluate the current status of hawksbill sea turtle populations in the Wider Caribbean and Western Atlantic, and to present the best available methods of research and conservation for the species. The United States will announce its support for the IAC workshop and recommend that CITES collaborate with this and other relevant bodies concerning this species such as the Caribbean Environment Program.

59. Sharks

59.1 Report of the Animals Committee (Doc. 59.1). Tentative U.S. negotiating position: Support with exception. The report contains: (1) A review of implementation issues related to sharks listed in the CITES Appendices, to provide assistance to Parties in managing the species covered by the Convention; (2) information on specific cases where trade is having an adverse impact on sharks and the key species of sharks affected in this way; and (3) a listing and analysis of those species that are specifically threatened by trade. The proposal contains a large number of wide-ranging decisions and recommendations. As indicated by the Secretariat, at CoP14 a working group will review and edit the draft decisions; prioritize and rationalize the proposed measures; minimize overlapping instructions; look into reducing and simplifying the reporting burden; and assess the cost of implementing the draft decisions. The United States will work to ensure that this work is completed.

59.2 Additional conservation measures (Doc. 59.2; Australia). Tentative U.S. negotiating position: Support. This document states that, while the report from the Animals Committee to this meeting of the Conference of the Parties contains a number of useful suggestions for consideration to protect and conserve sharks, additional measures should be considered under the agenda item addressing sharks. These measures include: (1) That countries with National Plans of Action (NPOA-Sharks) strongly encourage the remaining shark-fishing countries to develop and implement NPOA-Sharks; (2) that regional fishing management organizations implement regional plans of action; and (3) that Parties greatly improve their data collection and reporting. The United States is one of the 16 countries that have implemented a NPOA-Sharks and is a lead country for promoting the sustainable use of shark resources.

59.3 Trade measures regarding the porbeagle Lamna nasus and the spiny dogfish Squalus acanthias (Doc. 59.3; Germany, on behalf of the European Community Member States). Tentative U.S. negotiating position: Undecided. This document will be considered if proposals for listing porbeagle and spiny dogfish in Appendix II are adopted. The document contains a draft decision that, if adopted, would direct the Animals Committee, in consultation with the FAO and other relevant experts, to examine trade in porbeagles and spiny dogfish and report at the 16th meeting of the Conference of the Parties. The Secretariat believes Resolution Conf. 12.6 on Conservation and Management of Sharks already directs the Animals Committee to make species-specific recommendations to the Conference of the Parties, if necessary, on improving the conservation status of sharks and the regulation of international trade in these species. FAO has been present at each of the recent meetings of the Animals Committee and has assisted the Committee in discussions on marine fish species, including sharks.

60. Sturgeons and Paddlefish

60.1 Report of the Secretariat (Doc. 60.1). Tentative U.S. negotiating position: No position is necessary; the CoP is asked to note the report. This document was prepared by the Secretariat to report on progress made in developing a trade database for sturgeon specimens subject to annual quotas (Decisions 13.44-13.47) and other activities related to sturgeon conservation.

60.2 Amendment of Resolution Conf. 12.7 (Rev. CoP13)

60.2.1 Proposal of the Standing Committee's Working Group on Sturgeons (Doc. 60.2.1; Islamic Republic of Iran). Tentative U.S. negotiating position: Support some provisions; oppose others. Two documents (CoP14 Doc. 60.2.1 and CoP14 Doc. 60.2.2) contain proposed amendments to the resolution on conservation and trade of sturgeons and paddlefish (Resolution Conf. 12.7 (Rev. CoP13)) and should be considered together. Document CoP14 Doc. 60.2.1 was submitted by the Islamic Republic of Iran, on behalf of the Standing Committee's working group on sturgeons, and Document CoP14 Doc. 60.2.2 was submitted by the Russian Federation. We fully support some of the changes proposed, including a reduction of the personal effects exemption for caviar from 250g to 125g, but we have serious concerns about others, including the proposed extension of the timeframe established at CoP13 for export of caviar from shared stocks. The United States has participated in past working groups on this issue, including the group established at SC54. Document CoP14 Doc. 60.2.1 includes text that was not agreed to by the working group and will require further discussion at the CoP. We expect that a working group will be established at CoP14, and we plan to continue to participate fully on this important issue. We will develop a final position based on the outcome of discussions at CoP14.

60.2.2 Proposal of the Russian Federation (Doc. 60.2.2). Tentative U.S. negotiating position: See discussion on Document CoP14 Doc. 60.2.1 above.

61. Toothfish: report of CCAMLR (Doc. 61). Tentative U.S. negotiating position: Support. At CoP12, the Parties adopted Resolution Conf. 12.4, Cooperation between CITES and the Commission for the Conservation of Antarctic Marine Living Resources (CCAMLR) regarding trade in toothfish, that encouraged CCAMLR to “maintain a permanent flow of information” to CITES through the Conference of the Parties. Document CoP14 Doc. 61 is CCAMLR's report to the CoP and contains four recommendations for the Conference of the Parties to: (1) request four particular CITES Parties that are either involved in illegal, unregulated, and unreported (IUU) fishing for toothfish or engaged in toothfish trade without having fully implemented CCAMLR conservation measures to report their position regarding implementing Resolution Conf. 12.4 for consideration at the next CCAMLR annual meeting; (2) notify CITES Parties whose fishing vessels are engaged in IUU fishing for toothfish that their actions seriously undermine the objectives of CCAMLR; and (3) reinforce the provision of Resolution Conf. 12.4 that recommends that CITES Parties that capture or trade in toothfish adhere to CCAMLR if they have not already done so and, in any case, cooperate voluntarily with its conservation measures, particularly the catch documentation scheme (CDS).

The United States recognizes the threat that IUU fishing poses to toothfish populations and fully supports adoption of CCAMLR conservation measures by all countries involved in the toothfish trade. We renew our full endorsement and strong support of the fundamental principles and language adopted in Resolution Conf. 12.4 in 2002.

62. Sea cucumbers (Doc. 62). Tentative U.S. negotiating position: Support. This document fulfills the decision of the last CoP, that the Animals Committee should prepare, for consideration at the 14th meeting of the Conference of the Parties, a discussion paper on the biological and trade status of sea cucumbers to provide scientific guidance on the actions needed to secure their conservation status. The United States has actively participated in this process and will continue to do so.

63. Trade in traditional medicines (Doc. 63; Australia). Tentative U.S. negotiating position: Support. In its document, Australia recommends a number of revisions to Resolution Conf. 10.19 (Rev. CoP12) (Traditional medicines), primarily aimed at encouraging Parties to pursue the development and use of alternative ingredients in traditional medicines as a preferred alternative to breeding Appendix-I species in captivity for commercial purposes. The United States shares Australia's concerns regarding the potential for creating or increasing demand for wild Appendix-I species by using captive-bred specimens in traditional medicines.

64. Bigleaf mahogany: Report of the Working Group (Doc. 64). Tentative U.S. negotiating position: Support. In Document CoP14 Doc. 64, prepared by the Chairman of the Plants Committee with the assistance of the Chairman of the Bigleaf Mahogany Working Group (BMWG), the Plants Committee recommends adoption of a number of new draft decisions related to the continuation of the BMWG under the Plants Committee and the interpretation of the annotations for tree species listed in the Appendices. Additionally, the Plants Committee recommends a draft decision directed to the Plants Committee that it review at its 17th meeting (anticipated to be held in April 2008) range State reports on implementation of the CITES listing for bigleaf mahogany and consider whether there is a need to include the species in the Review of Significant Trade. The United States supports the continuation of the BMWG under the Plants Committee, but believes that, if by the 17th meeting of the Plants Committee (PC17), sufficient progress has not been made in improving the regulation of trade, the species should be included in the Review of Significant Trade as a matter of urgency.

65. Report of the Central Africa Bushmeat Working Group (Doc. 65). Tentative U.S. negotiating position: Support. Document CoP14 Doc. 65 presents the Coordinator's report of the Central Africa Bushmeat Working Group in fulfillment of Decision 13.102 on progress in implementing national action plans relating to the trade in bushmeat and other initiatives regarding this issue. The United States has supported the work of the Working Group since its inception and applauds the progress the group has made in supporting the development of national strategies and action plans to combat international commercial bushmeat trade.

Amendment of the Appendices

66. Periodic review of the Appendices (Doc. 66). Tentative U.S. negotiating position: Support. The Review of the Appendices is an activity conducted by the Animals and Plants Committees to ensure that the CITES Appendices continue to accurately reflect the biological and trade status of species included in the Appendices. This document recounts efforts by the Animals and Plants Committees, with the involvement of the Standing Committee, to establish an objective and efficient process for selecting species for review. Although the two technical committees, through a working group, developed a “rapid assessment” technique for selecting species for review, this procedure was subsequently determined to not be practicable for selecting a workable list of species for review. The Animals and Plants Committees have suggested that further work is needed to develop a process for selecting species for review, and are proposing that the work done thus far should be used as a starting point for further refining and finalizing these efforts.

68. Proposals to Amend Appendices I and II (Doc. 68)

Prop. 1. Transfer of Nycticebus spp. from Appendix II to Appendix I. Proposed by Cambodia. Tentative U.S. negotiating position: Support. Slow lorises (Nycticebus spp.) are prosimians, an ancient group of primates. The genus is widely distributed in at least 14 South and Southeast Asian countries. Large-scale deforestation has reduced the habitat for Nycticebus species, and thus it can be inferred that the genus has undergone a reduction in overall population numbers. In September 2006, the IUCN/SSC Primate Specialist Group revised its classification of Nycticebus species based on the IUCN Red List criteria and recommended that all species now be considered Vulnerable or Endangered. Recent scientific studies have also revealed that the genus Nycticebus contains more species than previously thought, and consequently, the individual species may consist of smaller populations. All species of Nycticebus have a low reproductive rate, making them particularly vulnerable to exploitation. Therefore, it seems that the biological criteria are met for listing in Appendix I according to Resolution Conf. 9.24 (Rev. CoP13). The proposal also demonstrates that international trade in species of Nycticebus has been, and still is taking place, primarily for medicinal purposes and for use as pets. Although official figures for legal trade are relatively low, much of the trade is illegal, as evidenced by the number of seizures taking place, indicating that the real trade volume is likely to be much higher.

Prop. 3. Transfer the Ugandan population of leopard (Panthera pardus) from Appendix I to Appendix II with an annotation that trade is to be allowed for the exclusive purpose of sport hunting for trophies and skins for personal use, to be exported as personal effects; and with an annual export quota of 50 leopards for the whole country. Proposed by Uganda. Tentative U.S. negotiating position: Oppose transfer to Appendix II; oppose the proposed export quota of 50 leopards per year. The proposal cites both Resolution Conf. 10.14 (Rev. CoP13) and Resolution Conf. 9.24 (Rev. CoP13) for the approval of an annual export quota of 50 leopards. The proposal is not written in accordance with the format for proposals to amend the Appendices as per Annex 6 to Resolution Conf. 9.24 (Rev. CoP13). As a result, it does not demonstrate that the population in Uganda no longer meets the biological criteria for inclusion in Appendix I or which precautionary measure will be in place. The CITES Secretariat has suggested that Uganda request consideration of this proposal under agenda item 37 (Appendix-I species subject to export quotas) rather than item 68 (Proposals to amend the Appendices).

Uganda asserts that the proposed export quota of 50 leopards per year is a precautionary figure that will account for both animal control and sport hunting. The United States, as reflected in the document we submitted for CoP12 on establishing scientifically based quotas and in accordance with Resolution Conf. 9.21 (Rev. CoP13), which calls for establishment of a scientific basis for proposed quotas, is keen to ensure that annual export quotas are established on strong biological data. Although a quota of 50 is considered by Uganda as precautionary, the proposal does not provide any supporting biological information for this figure. Therefore, it cannot be determined whether the population can be sustained under the proposed quota figure.

Prop. 4. Maintenance of the African elephant (Loxodonta africana) populations of Botswana, Namibia, South Africa, and Zimbabwe in Appendix II in terms of Article II, paragraph 2(b), with the replacement of all existing annotations with annotations on trade, export quotas, and proceeds regarding raw ivory. Proposed by Botswana and Namibia. Tentative U.S. negotiating position: Undecided. The proposal would maintain the populations of Botswana, Namibia, South Africa, and Zimbabwe in Appendix II with changes to the annotations. The annotations would be replaced to allow the establishment of annual export quotas for trade in raw ivory. The ivory would be sold to trading partners that have been certified by the Secretariat, in consultation with the Standing Committee, and the income from the trade in raw ivory would be used exclusively for elephant conservation and community development programs. The United States will formulate its position based on the results of the African elephant range states dialogue meeting and reports expected at SC55 and CoP14.

Prop. 5. Amendment of the annotation of the African elephant (Loxodonta africana) populations of Botswana. Proposed by Botswana. Tentative U.S. negotiating position: Undecided. This proposal would amend the annotation for Botswana's elephant population from the live animal trade condition “for in situ conservation programs” only to “for commercial purposes.” “Trade in leather goods” would be changed from “non-commercial” to “commercial” purposes (as is the case for Namibia and South Africa). Trade in registered raw ivory could only come from registered government-owned stocks originating in Botswana and subject to the conditions of Resolution Conf. 10.10 (Rev. CoP12) concerning domestic manufacturing and trade. A maximum of 40 metric tons of ivory could be traded and exported in a single shipment under strict supervision of the Secretariat. The income of the trade would be used exclusively for elephant conservation and community conservation and development programs within or adjacent to the elephant range. The proposed annotation would allow an immediate “one-off” sale and annual sales of up to 8 metric tons of registered stocks of raw ivory for commercial purposes. The United States will formulate its position based on the results of the African elephant range states dialogue meeting and reports expected at SC55 and CoP14.

Prop. 6. Amendment of the annotation of the African elephant (Loxodonta africana) populations of Botswana, Namibia, and South Africa. Proposed by Kenya and Mali. Tentative U.S. negotiating position: Undecided. This proposal would amend the annotations of the populations of Botswana, Namibia, and South Africa to prohibit trade in raw or worked ivory for 20 years, except for hunting trophies for non-commercial purposes, the one-off sale agreed upon at CoP12, and Namibian ekipas (ivory trinkets) for non-commercial purposes. It also revokes Zimbabwe's annotation to sell ivory carvings for non-commercial purposes. The United States will formulate its position based on the results of the African Elephant Range State Dialogue meeting and reports expected at SC55 and CoP14.

Prop. 8. Amendment of the annotation of the vicuña (Vicugna vicugna) population of Bolivia for the exclusive purpose of allowing international trade in wool sheared from live vicuñas, and in cloth and items made thereof, including luxury handicrafts and knitted articles. Proposed by Bolivia. Tentative U.S. negotiating position: Undecided. In February 2003, Bolivia listed its vicuña population in Appendix II for wool and products derived from sheared live animals of the populations of the Conservation Units of Mauri-Desaguadero, Ulla Ulla, and Lípez-Chichas; and wool products made from sheared live animals of the rest of the population of Bolivia. This proposal would amend the annotation to include the entire Bolivian vicuña population for wool and products. The rest of the annotation remains unchanged. Although the wild population is increasing, we would like an explanation for the decrease in the population of Lípez-Chichas of over 2,000 specimens between 2002 and 2004.

Prop. 9. Inclusion of Barbary red deer (Cervus elaphus barbarus) in Appendix I. Proposed by Algeria. Tentative U.S. negotiating position: Oppose. The Barbary red deer is considered a subspecies of red deer (Cervus elaphus) and is confined to Tunisia, Algeria, and a reintroduced population in Morocco. However, recent genetic analysis has indicated that these populations in North Africa are virtually indistinguishable from C. elaphus corsicanus in Sardinia, Italy, and the reintroduced population in Corsica, France. One assessment considers all these populations to belong to a separate species, Cervus corsicanus. The Barbary red deer has been included in Appendix III at the request of Tunisia since 1976. The subspecies was assessed as “Lower risk/near threatened” by IUCN in 1996. The wild population is reported to have decreased historically, and appears to have a restricted area of distribution. However, it is unclear if the biological criteria are met due to the uncertainty of its taxonomy. According to the proposal, there is no national utilization, no legal or illegal trade, and no actual or potential trade impacts. Therefore, the trade criteria for an Appendix-I listing are not met. Threats are reported to include poaching and forest fires; listing in Appendix I is not likely to benefit the conservation of this species.

Prop. 10. Inclusion of Cuvier's gazelle (Gazella cuvieri) in Appendix I. Proposed by Algeria. Tentative U.S. negotiating position: Oppose. The Cuvier's gazelle is distributed in Algeria, Morocco, and Tunisia in small scattered populations. The species has been included in Appendix III at the request of Tunisia since 1976. The species was assessed by IUCN as “Endangered” in 1996, on the basis that the population numbered below 2,500 mature individuals and was declining. In 2005-2006, the Algerian population was estimated at 500 individuals, and populations were reported to be stable. According to the proposal, there is no national utilization, no legal or illegal trade, and no actual or potential trade impacts. Therefore, the trade criteria for an Appendix-I listing are not met. Threats are reported to include poaching and forest fires; listing in Appendix I is not likely to benefit the conservation of this species.

Prop. 11. Inclusion of Dorcas gazelle (Gazella dorcas) in Appendix I. Proposed by Algeria. Tentative U.S. negotiating position: Oppose. The Dorcas gazelle has a patchy distribution in at least 19 countries in the arid and sub-arid zones of the Sahelo-Saharan region and in the Near East. The species has been included in Appendix III of CITES at the request of Tunisia since 1976. According to the proposal, the species' population in the wild has declined significantly, perhaps by 50% within the past half-century, due to hunting with motorized vehicles and, to a lesser extent, degradation and disappearance of habitat. The species was assessed as “Vulnerable” by IUCN in 2000, and is included in Appendix I of the Convention on Migratory Species (CMS). The species does not appear to meet the biological criteria for inclusion in Appendix I, because there is no indication that the species' range is restricted in extent or that the overall population is small. The proposal does not provide any information on trade, and although the CITES trade database shows very low levels of international trade, it is mainly in live specimens, and to a lesser extent body parts and trophies. Therefore, the trade criteria for an Appendix-I listing are not met. Threats are reported to include poaching and overgrazing by cattle. Listing in Appendix I is not likely to benefit the conservation of this species.

Prop. 12. Inclusion of slender-horned gazelle (Gazella leptoceros) in Appendix I. Proposed by Algeria. Tentative U.S. negotiating position: Support. The slender-horned gazelle is distributed across eight or nine countries in northern Africa. The species has been included in Appendix III of CITES at the request of Tunisia since 1976. The species was assessed as “Endangered” by IUCN in 1996 and appears to meet the biological criteria for an Appendix-I listing. According to the proposal, threats to the species include motorized hunting and degradation of vegetation. International trade in trophies does occur, but is not well documented. From a precautionary standpoint this species merits inclusion in Appendix I.

Prop. 13. Transfer of the Brazilian population of black caiman (Melanosuchus niger) from Appendix I to Appendix II. Proposed by Brazil. Tentative U.S. negotiating position: Undecided. Brazil submitted this proposal to transfer its population from Appendix I to Appendix II. The population in Brazil comprises approximately 80% of the species' range, is estimated to comprise 16 million individuals, and is increasing. Brazil proposes to harvest 695 specimens per year in the Mamirau? Sustainable Development Reserve. In subsequent years, a harvest quota of 5-7% of the non-hatchling wild population (primarily juvenile males) would be in place throughout Brazil. We have some concerns about the adequacy of safeguards against illegal harvest, uncontrolled exports from Brazil, and possible effects on the species in adjacent range countries. We would also like to hear the opinions of the other range States (Bolivia, Colombia, Ecuador, Guyana, Peru, and Suriname). We note that this species is currently listed as endangered under the Endangered Species Act, and as such, even if the proposal is adopted, the import of specimens into the United States for commercial purposes would remain prohibited.

Prop. 14. Transfer Guatemalan beaded lizard (Heloderma horridum charlesbogerti) from Appendix II to Appendix I. Proposed by Guatemala. Tentative U.S. negotiating position: Support. The Guatemalan beaded lizard is one of four subspecies of beaded lizard, a large venomous species native to Mexico and Guatemala. The Guatemalan beaded lizard is endemic to the Motagua Valley in eastern Guatemala and is considered to be one of the most endangered animals in the world. This subspecies was formally described in 1988, a decade later thought to be extinct in the wild, and then re-discovered in 2002. There are an estimated 170-250 individuals of this subspecies; it is believed to have declined based on the difficulty of locating individuals compared to the 1980s. The major threats to the Guatemalan beaded lizard are habitat destruction, over-collection for local and foreign use, persecution by locals, and effects of hurricanes. Collection and trade in this subspecies are illegal in Guatemala. However, illegal domestic and international trade occur due to the high demand for the subspecies by collectors. Even a small level of trade in this subspecies is significant due to its extremely low population numbers.

Resolution Conf. 9.24 (Rev. CoP13) states that split-listing a species should generally be avoided due to the potential enforcement problems it creates, and it states that taxonomic listings below the species level should be avoided unless the taxon in question is highly distinctive and the use of the name would not give rise to enforcement problems. Consultations with experts have revealed that specimens of this subspecies from one year of age to adulthood can be distinguished from other subspecies. Potential identification difficulties of very young animals should not be an issue of concern because only adult specimens have been found in the wild. This subspecies meets the biological and trade criteria for an Appendix-I listing, and prevention of any level of trade in wild specimens of this critically endangered subspecies would contribute significantly to its conservation.

Prop. 15. Inclusion of porbeagle (Lamna nasus) in Appendix II with entry into effect of the inclusion to be delayed by 18 months to enable Parties to resolve the related technical and administrative issues. Proposed by Germany, on behalf of the European Community Member States. Tentative U.S. negotiating position: Undecided. The proponent has cited that the species' life history, vulnerability to overexploitation, inadequate fisheries management, and overfishing as supporting reasons for the proposal. There is not sufficient data in the proposal to support the statement that international trade is one of the driving factors in this species' overfished status or a factor that could prohibit populations from rebounding. Both the United States and Canada are actively managing the species to reduce fishing pressure. It is also not clear whether it is possible (efficient and enforceable) to distinguish porbeagle sharks from other species of sharks in trade. The Fish and Wildlife Service (Service) and the National Marine Fisheries Service (NMFS) are studying the proposal and consulting with other Parties to develop the U.S. position.

Prop. 16. Inclusion of spiny dogfish (Squalus acanthias) in Appendix II with entry into effect of the inclusion to be delayed by 18 months to enable Parties to resolve the related technical and administrative issues. Proposed by Germany, on behalf of the European Community Member States. Tentative U.S. negotiating position: Undecided. The proponent has cited that the species' life history, vulnerability to overexploitation, inadequate fisheries management, and overfishing as supporting reasons for the proposal. The proposal calls for the listing of the species throughout its range. The Northeast Atlantic stock has suffered a large decline, but a number of other global stocks are currently stable. There are currently both Federal and interstate fishery management plans for spiny dogfish in the United States. The proponent also indicates that population declines in several Northern Hemisphere stocks, combined with high market demand, are driving fishing pressure on other stocks that are now beginning to supply international markets. The proposal contains little information to support this observation. The Service and NMFS are studying the proposal and consulting with other Parties to develop the U.S. position.

Prop. 18. Inclusion of European eel (Anguilla anguilla) in Appendix II. Proposed by Germany, on behalf of the European Community Member States. Tentative U.S. negotiating position: Undecided. The European eel occurs in coastal areas and freshwater ecosystems in Europe, northern Africa, and the Mediterranean parts of Asia. The proponent has cited that the species' complex life history in combination with heavy exploitation in all of its life stages and high fishing mortality, along with habitat loss, pollution, climate change affecting ocean currents, and damming of rivers, as factors that have resulted in sharp population declines. Poaching and illegal trade in European eels is also a concern. However, because the fishery is small in scale and specialized, bycatch of the species is not considered a threat to the species. Although there are various regional management measures in place, there is no regulatory protection mechanism in place to regulate international trade in the European eel. Due to historical and recent declines, as measured from harvest data (e.g., an average 95-99% decline in harvest in 19 rivers in 12 countries), the species appears to meet the criteria in Resolution Conf. 9.24 (Rev. CoP13) for inclusion in Appendix II. However, the similarity of appearance between this species and other eels in the genus Anguilla, including the American eel (A. rostrata), which is also in international trade, presents implementation and enforcement difficulties for such a listing.

Prop. 20. Inclusion of Brazilian populations of spiny lobster (Panulirus argus and P. laevicauda) in Appendix II. Proposed by Brazil. Tentative U.S. negotiating position: Oppose. The proponent states that the status of these species in Brazilian waters is severely overfished and that overfishing is still occurring mainly due to take of undersized animals. The United States feels strongly that, as the world's largest importer of Brazil's spiny lobsters, we should make every effort to support Brazil for its efforts to conserve and manage spiny lobster in their waters. However, this proposal is not supportable because it would result in a split-listing of the species that would not be enforceable. Enforcement authorities in importing countries would not be able to determine whether spiny lobsters entering their countries were coming from Brazil, and thus required to be accompanied by CITES export permits, or whether they had originated elsewhere. Inclusion of these species in Appendix III throughout their ranges would provide greater conservation benefit and would track the species throughout the Wider Caribbean. The Service and NMFS are consulting bilaterally with the Government of Brazil and multilaterally with other governments in the region to consider additional tools for the conservation of spiny lobster populations.

Prop. 24. Deletion of leaf-bearing cacti in the genera Pereskia and Quiabentia from Appendix II. Proposed by Argentina. Tentative U.S. negotiating position: Undecided. This proposal would remove all species of these leaf-bearing cacti from Appendix II. For some of these species, whose status in the wild is unclear, we are concerned about the impact that unregulated trade may have on these species.

Prop. 25. Deletion of leaf-bearing cacti in the genus Pereskiopsis from Appendix II. Proposed by Mexico. Tentative U.S. negotiating position: Support. This proposal would remove Pereskiopsis spp. from Appendix II. We have evaluated this proposal and discussed it directly with the Mexican CITES authorities, and have determined that the removal of this genus from Appendix II should not result in the unsustainable use of these species for trade or enforcement difficulties for regulating trade in other species due to similarity of appearance.

Prop. 26. Merging and amendment of annotations #1, #4 and #8 for cacti (Cactaceae spp. (#4)) and orchids (Orchidaceae spp. (#8)) in Appendix II, and all taxa annotated with annotation #1. Proposed by Switzerland. Tentative U.S. negotiating position: Oppose. This proposal was produced outside the process that was established by the Plants Committee, at the direction of the Parties, to streamline the annotations for CITES-listed medicinal plants. The proposed language broadens the exemptions as well as the taxa exempted, while providing little information on the impact of unregulated trade on the species. In particular, we note that inclusion of provisions to exempt leaves did not receive support from the Plants Committee when discussed at its 15th meeting (PC15), and the proposed provision to exempt herbarium specimens has been previously rejected by the Parties as not being consistent with the terms of the Convention.

Prop. 27. Amendment of the annotations to Adonis vernalis, Guaiacum species, Hydrastis canadensis, Nardostachys grandiflora, Panax ginseng, Panax quinquefolius, Picrorhiza kurrooa, Podophyllum hexandrum, Pterocarpus santalinus, Rauvolfia serpentina, Taxus chinensis, T. fuana, T. cuspidata, T. sumatrana, and T. wallichiana, Orchidaceae species in Appendix II, and all Appendix-II and -III taxa annotated with annotation #1. Proposed by Switzerland as the Depositary Government, at the request of the Plants Committee. Tentative U.S. negotiating position: Support. This document was produced by consensus of the Medicinal Plant Annotations Working Group (MPAWG) in consultation with the Plants Committee, under the direction of the Conference of the Parties, to assess the effectiveness of and streamline the annotations for CITES-listed medicinal plants (CoP13: Decisions 13.50-13.52). The proposal clarifies terms and tracks currently exempted material believed to be in trade, without expanding upon the exemptions for species.

Prop. 29. Amendment of the annotation to Euphorbia species. Proposed by Switzerland. Tentative U.S. negotiating position: Oppose. As currently written, the annotation is difficult to understand and may provide the opportunity to exclude wild-collected specimens from CITES controls.

Prop. 30. Inclusion of pernambuco (Caesalpinia echinata) in Appendix II, including all parts and derivatives. Proposed by Brazil. Tentative U.S. negotiating position: Support on the condition that the proposal will be amended at the CoP to exempt a limited quantity of manufactured musical bows for personal use (e.g., by professional musicians), or something similar. Pernambuco is the primary wood used to make fine bows for stringed musical instruments, for which there is no other comparable wood substitute.

Pernambuco is a slow-growing tropical tree restricted to the Atlantic Coastal Forest of Brazil. Since 1992, the species has been listed as threatened in Brazil, and is categorized as endangered by the IUCN. Although Brazil has strict national controls in place that regulate the use of this species, the species and its Atlantic Forest habitat remain poorly protected, and enforcement of environmental laws is constrained by the availability of financial and human resources. Conservationists, and bow makers and musicians worldwide are concerned about the conservation and sustainable use of existing stocks of pernambuco. Several entities (e.g., the International Pernambuco Conservation Initiative) are actively working in Brazil to promote conservation and reforestation of pernambuco.

The listing of pernambuco in Appendix II would support the efforts undertaken by the Brazilian Government to ensure that trade is both legal and sustainable by requiring specimens in trade to have CITES permits. However, given the number of existing bows worldwide, a listing of the species that includes all parts and derivatives may be overly burdensome on traveling musicians without providing substantial conservation benefit. We will work with Brazil and other Parties on this proposal to promote the conservation of this species while avoiding unnecessary constraints on products already in trade.

Prop. 31. Inclusion of rosewood or cocobola (Dalbergia retusa) in Appendix II, and D. granadillo for look-alike reasons. Proposed by Germany, on behalf of the European Community Member States. Tentative U.S. negotiating position: Undecided. Dalbergia retusa is a slow-growing tree of tropical dry forests from Mexico to Panama; D. granadillo occurs in El Salvador and Mexico. Dalbergia retusa has been extensively harvested, and some areas are reported to be commercially exhausted. The United States imports rosewood, which is used primarily for the production of musical instruments. We are evaluating this proposal to determine if it meets the requirements for inclusion in Appendix II. The positions of range countries on this proposal are critical to the development of our position, and therefore, we are currently consulting with them on this proposal to determine how we can best work cooperatively for the conservation and sustainable use of this species.

Prop. 32. Inclusion of Honduras rosewood (Dalbergia stevensonii) in Appendix II. Proposed by Germany, on behalf of the European Community Member States. Tentative U.S. negotiating position: Undecided. Honduran rosewood is restricted to swamp forests of southern Belize, northern Guatemala, and southeastern Mexico. The United States imports rosewood, which is used primarily for the production of musical instruments. We are evaluating this proposal to determine if it meets the requirements for inclusion in Appendix II. The positions of range countries on this proposal are critical to the development of our position, and therefore, we are currently consulting with them on this proposal to determine how we can best work cooperatively for the conservation and sustainable use of this species.

Prop. 33. Inclusion of the genus Cedrela in Appendix II. Proposed by Germany, on behalf of the European Community Member States. Tentative U.S. negotiating position: Undecided. The proposal would include Spanish cedar (C. odorata), and all other species in the genus Cedrela (an estimated six species) for look-alike reasons, in Appendix II. Spanish cedar is a wide-ranging species of lowland forests in the Caribbean Islands, Central America, Mexico, and South America. In 2001, Colombia and Peru included their populations of Spanish cedar in Appendix III, with annotation #5, which designates logs, sawn wood and veneer sheets. Since this listing, exports of Spanish cedar from Peru to the United States have increased. We are consulting with the range countries to clarify the support for, and the anticipated effects of, this proposal. We will work with range countries and other Parties on this proposal to promote sustainable forest management and conservation of this species.

Prop. 34. Amendment of the annotation to exempt certain artificially propagated hybrids of Orchidaceae (interspecific and intergeneric hybrids of Cymbidium, Dendrobium, Miltonia, Odontoglossum, Oncidium, Phalaenopsis and Vanda) included in Appendix II. Proposed by Switzerland. Tentative U.S. negotiating position: Oppose. This proposal would merge existing taxon-specific exemptions on the Orchidaceae family, but more importantly would broaden exemptions for artificially propagated hybrids to include the genera Miltonia, Odontoglossum, and Oncidium. There are concerns that the exemption of New World genera would create enforcement problems for range countries, a sentiment that was previously raised at CoP12 and CoP13.

Prop. 35. Amendment of the annotation to exempt certain artificially propagated hybrids of Orchidaceae (interspecific and intergeneric hybrids of Cymbidium, Dendrobium, Phalaenopsis, and Vanda) included in Appendix II. Proposed by Switzerland as the Depositary Government, at the request of the Plants Committee. Tentative U.S. negotiating position: Support. This proposal would replace confusing language in the existing taxon-specific orchid hybrid exemptions (referred to as footnote 8) with language proposed and agreed upon by consensus of the Plants Committee.

Prop. 37. Deletion of the current annotation for Taxus chinensis, T. fuana, and T. sumatrana, and adoption of a new annotation for T. cuspidata in Appendix II. Proposed by Switzerland, as Depositary Government, at the request of the Standing Committee. Tentative U.S. negotiating position: Support Part A; oppose Part B of the proposal. The adoption of Part A of this proposal would delete the annotation to exempt labeled, potted artificially propagated plants of T. chinensis, T. fuana, and T. sumatrana from CITES regulations. Adoption of Part B would add a new annotation to the listing of T. cuspidata to exempt labeled, potted artificially propagated plants of hybrids and cultivars of the species from CITES regulations. This proposal seeks to rectify the adoption of an annotation at CoP13 for these taxa, which was subsequently determined to contravene the provisions of the Convention. However, it is the opinion of the United States that this proposal is similarly flawed in that it allows an exemption for whole plants or artificially propagated hybrids and cultivars of T. cuspidata, but does not exempt readily recognizable parts and derivatives.

Conclusion of the Meeting

69. Determination of the time and venue of the next regular meeting of the Conference of the Parties (no document). Tentative U.S. negotiating position: Not applicable. The Secretariat does not normally circulate a document on the time and venue of the next CoP. We anticipate receiving information on this at CoP14, at which time the United States will develop a negotiating position. The United States favors holding CoP15 in a country where all Parties and observers will be admitted without political difficulties, and where facilities are available to ensure the safe and efficient conduct of the meeting.

70. Closing Remarks (No document)

Future Actions

During our regular public briefings at CoP14, we will discuss any changes in our negotiating positions. After CoP14, we will publish a notice to invite public input on whether the United States should take a reservation on any of the amendments to the CITES Appendices. Whereas CITES provides a period of 90 days from the close of a CoP for any Party to enter a reservation with respect to an amendment to Appendix I or II, the United States has never entered a reservation on any CITES listing. As discussed in the Federal Register notice of November 17, 1987 (52 FR 43924), entering a reservation would do very little to relieve importers in the United States from the need for foreign export permits because the Lacey Act Amendments of 1981 (16 U.S.C. 3371 et seq.) make it a Federal offense to import into the United States any animals taken, possessed, transported, or sold in violation of foreign conservation laws. If the foreign nation has enacted CITES, and has not taken a reservation with regard to any species, part, or derivative, the United States would continue to require CITES documents as a condition of import. A reservation by the United States also would provide exporters in this country with little relief from the need for U.S. export documents. Receiving countries that are party to CITES will require CITES-equivalent documentation from the United States even if it enters a reservation, because the Parties have agreed to allow trade with non-Parties (including reserving countries) only if they issue documents containing all of the information required on CITES permits and certificates, and only if the same findings have been made prior to issuance of the documents.

Author: This notice was prepared by Clifton A. Horton, Division of Management Authority; under the authority of the U.S. Endangered Species Act of 1973, as amended (16 U.S.C. 1531 et seq.).

Dated: May 24, 2007.
Kenneth Stansell,
Acting Director.

[FR Doc. 07-2714 Filed 5-29-07; 11:34 am]

BILLING CODE 4310-55-P